DEPARTMENT OF AGRICULTURE

Commodity Credit Corporation

Announcement of the Foreign Market Development Cooperator Program for Fiscal Year 2002

AGENCY: Commodity Credit Corporation, USDA.

ACTION: Notice.

SUMMARY: This notice announces the application period for the Fiscal Year 2002 Foreign Market Development Cooperator (Cooperator) Program.

DATES: All applications must be received by 5 p.m. Eastern Standard Time, March 12, 2001.

FOR FURTHER INFORMATION CONTACT: Marketing Operations Staff, Foreign Agricultural Service, U.S. Agricultural Service, U.S. Department of Agriculture, STOP 1042, 1400 Independence Ave., SW., Washington, DC 20250, (202) 720-4327.

SUPPLEMENTARY INFORMATION:

Introduction

The Commodity Credit Corporation (CCC) announces that applications are being accepted for participation in the Fiscal Year 2002 Cooperator program. The program is designed to create, expand, and maintain foreign markets for United States agricultural commodities and products through cost-share assistance. Financial assistance under the Cooperator program will be made available on a competitive basis and applications will be reviewed against the evaluation criteria contained herein. The Cooperator program is administered by personnel of the Foreign Agricultural Service (FAS).

Under the Cooperator program, CCC enters into agreements with nonprofit U.S. trade organizations that have the broadest possible producer representation of the commodity being promoted and gives priority to those organizations that are nationwide in membership and scope. Cooperators may only receive assistance for the promotion of generic activities that do not involve promotions targeted directly at consumers. The program generally operates on a reimbursement basis.

Authority

The Cooperator program is authorized by Section 5(f) of the Commodity Credit Corporation Charter Act, 15 U.S.C. 714c(f). Cooperator program regulations appear at 7 CFR part 1484.

Eligible Applicants

To participate in the Cooperator program, an applicant must be a nonprofit U.S. agricultural trade organization.

Application Process

To be considered for the Cooperator program, an applicant must submit to FAS information required by the Cooperator program regulations set forth in 7 CFR part 1484. Incomplete applications and applications that do not otherwise conform to this announcement will not be accepted for review.

We also point out that FAS administers various other agricultural export assistance programs, including the Market Access Program (MAP), Cochran Fellowships, the Emerging Markets Program, the Quality Samples Program, Section 108 foreign currency program, and several Export Credit Guarantee programs. Organizations which are interested in applying for Cooperator program funds are encouraged to submit their requests using the Unified Export Strategy (UES) format. The UES allows interested entities to submit a consolidated and strategically coordinated single proposal that incorporates requests for funding and recommendations for virtually all FAS marketing programs, financial assistance programs, and market access programs. The suggested UES format encourages applicants to examine the constraints or barriers to trade they face, identify activities which would help overcome such impediments, consider the entire pool of complementary marketing tools and program resources, and establish realistic export goals. Applicants are not required, however, to use the UES format.

Organizations can submit applications in the UES format by two methods. The first allows an applicant to submit information directly to FAS through the UES application Internet site. FAS highly recommends applying via the Internet, as this format virtually eliminates paperwork and expedites the FAS processing and review cycle. Applicants also have the option of submitting electronic versions (along with two paper copies) of their applications to FAS on diskette.

Applicants planning to sue the Internet-based system must contact the Marketing Operations Staff of FAS at (202) 720-4327 to obtain site access information. The Internet-based application, including step-by-step instructions for its use, is located at the following URL address: http://www.fas.usda.gov/cooperators.html.

Applicants who choose to submit applications on diskette can download the UES handbook, including the suggested application format and instructions, from the following URL address: http://www.fas.usda/gov/mos/ues/unified.html. A UES handbook may also be obtained by contacting the Marketing Operations Staff at (202) 720-4327.

All Cooperator program applicants, whether applying via the Internet or diskette, must also submit by March 12, 2001, via hand delivery or U.S. mail, an original signed certification statement as specified in 7 CFR section 1484.20(a)(14). The UES handbook contains an acceptable certification format.

Any organization which is not interested in applying for the Cooperator program but would like to request assistance through one of the other programs mentioned, should contact the Marketing Operations Staff at (202) 720-4327.

Review Process and Allocation Criteria

FAS allocates funds in a manner that effectively supports the strategic decision-making initiatives of the Government Performance and Results Act (GPRA) of 1993. In deciding whether a proposed project will contribute to the effective creation, expansion, or maintenance of foreign markets, FAS seeks to identify a clear, long-term agricultural trade strategy and a program effectiveness time line against which results can be measured at specific intervals using quantifiable product or country goals. These performance indicators are part of FAS' resource allocation strategy to fund applicants which can demonstrate performance based on a long-term strategic plan and address the performance measurement objectives of the GPRA.

Following is a description of the FAS process for reviewing applications and the criteria for allocating available Cooperator program funds.

(1) Phase 1—Sufficiency Committee and FAS Divisional Review

Application received by the closing date will be reviewed by FAS to determine the eligibility of the applicants and the completeness of the applications. These requirements appear at § 1484.14 and § 1484.20 of the Cooperator program regulations. Applications which meet the application requirements will then be further evaluated by the applicable FAS Commodity Division. The Divisions will review each application against the criteria listed in § 1484.21 and § 1484.22 of the Cooperator program regulations. The purpose of this review is to identify meritorious proposals and to recommend an appropriate funding level for each application based upon these criteria.

(2) Phase 2—Competitive Review

Meritorious applications will then be passed on to the Office of the Deputy Administrator, Commodity and Marketing Programs, for the purpose of allocating available funds among the applicants. Applications which pass the Divisional Review will compete for funds on the basis of the following allocation criteria (the number in parentheses represents a percentage weight factor).

(a) Contribution Level (40)

• The applicant's 6-year average share (1997-2002 of all contributions (contributions may include cash and goods and services provided by U.S. entities in support of foreign market development activities) compared to

• The applicant's 6-year average share (1997-2002 of all Cooperator marketing plan budgets.

(b) Past Export Performance (20)

• The 6-year average share (1996-2001 of the value of exports promoted by the applicant compared to

• The applicant's 6-year average share (1996-2001 of all Cooperator marketing plan budgets plus a 6-year average share (1995-2000) of MAP program ceiling levels and a 6-year average share (1995-2000) of foreign overhead provided for co-location within a U.S. agricultural trade office.

(c) Past Demand Expansion Performance (20)

• The 6-year average share (1996-2001) of the total value of world trade of the commodities promoted by the applicant compared to

• The applicant's 6-year average share (1996-2001) of all Cooperator marketing plan budgets plus a 6-year average share (1995-2000) of MAP program ceiling levels and a 6-year average share (1995-2000) of foreign overhead provided for co-location within a U.S. agricultural trade office.

(d) Future Demand expansion Goals (10)

• The projected total dollar value of world trade of the commodities being promoted by the applicant for the year 2007 compared to

• The applicant's requested funding level.

(e) Accuracy of Past Demand expansion Projections (10)

• The actual dollar value share of world trade of the commodities being promoted by the applicant for the year 2000 compared to

• The applicant's past projected share of world trade of the commodities being promoted by the applicant for the year 2000, as specified in the 2000 Cooperator program application.

The Commodity Divisions' recommended funding level for each applicant is converted to a percentage of the total Cooperator program funds available and multiplied by the total weight factor to determine the amount of funds allocated to each applicant.

Closing Date for Applications

All Internet-based applications must be properly submitted by 5:00 p.m. Eastern Standard Time, March 12, 2001. Signed certification statements also must be received by that time at one of the addresses listed below.

All applications on diskette (with two accompanying paper copies and a signed certification statement) and any other applications must be received by 5:00 p.m. Eastern Standard Time, March 12, 2001, at one of the following addresses:

Hand Delivery (including FedEx, DHL, UPS, etc.): U.S. Department of Agriculture, Foreign Agricultural Service, Marketing Operations Staff, Room 4932-S, 1400 Independence Avenue, SW., Washington, DC 20250-1042.

U.S. Postal Delivery: Marketing Operations Staff, STOP 1042, 1400 Independence Ave., SW., Washington, DC 20250-1042.

Timothy J. Galvin,
Administrator, Foreign Agricultural Service, and Vice President, Commodity Credit Corporation.

[FR Doc. 00-33138 Filed 12-27-00; 8:45 am]

BILLING CODE 3410-10-M